OFFICE OF PERSONNEL MANAGEMENT

Submission for Review: OPM Online Form 1417, Combined Federal Campaign Results Report

AGENCY: Office of Personnel Management.

ACTION: 30-Day notice and request for comments.

SUMMARY: The Office of Combined Federal Campaign, Office of Personnel Management (OPM) offers the general public and other federal agencies the opportunity to comment on an information collection request (ICR) 3206-0271, OPM Form 1654-B, the Combined Federal Campaign Results Report. As required by the Paperwork Reduction Act of 1995, as amended by the Clinger-Cohen Act, OPM is soliciting comments for this collection. The information collection was previously published in the Federal Register on April 14, 2020. No comments were received for this information collection. The purpose of this notice is to allow an additional 30 days for public comments.

DATES: Comments are encouraged and will be accepted until August 13, 2020. This process is conducted under 5 CFR 1320.1.

ADDRESSES: Interested persons are invited to submit written comments on the proposed information collection to the Office of Information and Regulatory Affairs, Office of Management Budget, 725 17th Street NW, Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of the Combined Federal Campaign, 1900 E Street NW, Suite 6484E, Washington, DC 20405, Attention: Anthony DeCristofaro or sent via electronic mail to cfc@opm.gov.

SUPPLEMENTARY INFORMATION: The Office of Management and Budget and the Office of Personnel Management are particularly interested in comments that:

1. Evaluate whether the continued collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Combined Federal Campaign (CFC) is the world's largest and most successful annual workplace philanthropic giving campaign, with 36 CFC Zones throughout the country and overseas raising millions of dollars each year. The mission of the CFC is to promote and support philanthropy through a program that is employee-focused, cost-efficient, and effective in providing all federal employees and retirees the opportunity to improve the quality of life for all.

OPM Form 1654-B is a new information collection that collects CFC pledge information from federal annuitants and military retirees according to Executive Order 13743 signed October 13, 2016. It will be available in both paper format and as an electronic form administered by the CFC's Central Campaign Administrator according to 5 CFR 950.106(a). After the 2022 campaign year, OPM plans to phase out the collection of the paper form and convert this to an entirely electronic process.

Analysis

Agency: Combined Federal Campaign, Office of Personnel Management.

Title: OPM Form 1654-B, Combined Federal Campaign Federal Retiree Pledge Form.

OMB Number: 3206-0271.

Frequency: Annually.

Affected Public: Individuals or Households.

Number of Respondents: 250,000.

Estimated Time per Respondent: 30 minutes

Total Burden Hours: 125,000 hours.

Total Costs: $2,343,750.00.

Office of Personnel Management.
Alexys Stanley,
Regulatory Affairs Analyst.

[FR Doc. 2020-15099 Filed 7-13-20; 8:45 am]

BILLING CODE 6325-38-P